CIVIL RIGHTS COMMISSION

Agenda and Notice of Public Meeting of the New York Advisory Committee

Notice is hereby given, pursuant to the provisions of the rules and regulations of the U.S. Commission on Civil Rights (Commission), and the Federal Advisory Committee Act (FACA), that a planning meeting of the New York Advisory Committee to the Commission will convene at 12 p.m. (EST) on December 12, 2013. The purpose of the meeting is project planning to discuss the scope of the Advisory Committee's project on disparate treatment of youth in the New York correctional system.

These meetings will be conducted via conference call. Members of the public, including persons with hearing impairments, who wish to listen to the conference call should contact the Eastern Regional Office (ERO), ten days in advance of the scheduled meeting, so that a sufficient number of lines may be reserved. You may contact the Eastern Regional Office by phone at 202-376-7533—persons with hearing impairments would first call the Federal Relay Service at 1-800-977-8339 and give them the ERO number 202-376-7533—or by email at ero@usccr.gov. Those contacting ERO will be given instructions on how to listen to the conference call.

Members of the public who call-in can expect to incur charges for calls they initiate over wireless lines, and the Commission will not refund any incurred charges. Callers will incur no charge for calls they initiate over land-line connections to the toll-free telephone number.

Members of the public are entitled to submit written comments. The comments must be received in the regional office by January 14, 2014. Comments may be mailed to the Eastern Regional Office, U.S. Commission on Civil Rights, 1331 Pennsylvania Avenue, Suite 1150, Washington, DC 20425, faxed to (202) 376-7548, or emailed to ero@usccr.gov. Persons who desire additional information may contact the Eastern Regional Office at 202-376-7533.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

David Mussatt,
Acting Chief, Regional Programs Coordination Unit.

[FR Doc. 2013-28639 Filed 11-27-13; 8:45 am]

BILLING CODE 6335-01-P